DEPARTMENT OF HOMELAND SECURITY

Coast Guard

33 CFR Part 100

[Docket Number USCG-2025-0262]

RIN 1625-AA08

Special Local Regulation; York River, Yorktown, VA

AGENCY: Coast Guard, Department of Homeland Security (DHS).

ACTION: Final rule.

SUMMARY: The Coast Guard is establishing a special local regulation for certain waters on the York River in Yorktown, VA. This action is necessary to provide for the safety of life on these navigable waters during an annual high-speed boat race. This rulemaking prohibits persons and vessels from entering the regulated area when it is subject to enforcement unless authorized by the Captain of the Port, Sector Virginia or a designated representative.

DATES: This rule is effective June 1, 2025. It will only be subject to enforcement, however, on the first Sunday of June of each year, or as rescheduled, as provided in the rule.

ADDRESSES: To view documents mentioned in this preamble as being available in the docket, go to https://www.regulations.gov, type USCG-2025-0262 in the search box and click “Search.” Next, in the Document Type column, select “Supporting & Related Material.”

FOR FURTHER INFORMATION CONTACT: If you have questions about this rule, call or email LCDR Justin Strassfield, Sector Virginia, Waterways Management Division, U.S. Coast Guard, Telephone: (571) 608-2969; or virginiawaterways@uscg.mil.

SUPPLEMENTARY INFORMATION:

I. Table of Abbreviations

CFR Code of Federal Regulations

COTP Captain of the Port, Sector Virginia

DHS Department of Homeland Security

FR Federal Register

NPRM Notice of proposed rulemaking

§ Section

SLR Special Local Regulation

U.S.C. United States Code

II. Background Information and Regulatory History

On February 26, 2025, the Coast Guard received a request, under 33 CFR 100.15, from the County of York, for a Marine Event Permit to host a high-speed boat race to be held on June 1, 2025, from noon until 2 p.m., on the York River in Yorktown, VA. The sponsor plans to host this event annually thereafter, on the first Sunday of June. This year's high-speed boat race will include approximately 35 participants and 200 spectator craft.

On April 23, 2025, in response to the application, the Coast Guard published a notice of proposed rulemaking (NPRM) titled “Special Local Regulation; York River, Yorktown, VA” (90 FR 17024). There, we stated why we had issued the NPRM and we invited comments on our proposed regulatory action related to this SLR. During the comment period that ended May 8, 2025, we received 3 comments.

Under 5 U.S.C. 553(d)(3), the Coast Guard finds that good cause exists for making this rule effective less than 30 days after publication in the Federal Register. Delaying the effective date of this rule is impracticable because immediate action is needed to respond to the potential safety hazards associated with a high-speed boat race that will occur on June 1, 2025.

III. Legal Authority and Need for Rule

The Coast Guard is issuing this rule under the authority in 46 U.S.C. 70034. The Captain of the Port, Sector Virginia (COTP) has determined that potential hazards associated with a high-speed boat race will be a safety concern for anyone within the racing area. The purpose of this rule is to ensure safety of vessels and the navigable waters in the regulated area before, during, and after the scheduled event.

IV. Discussion of Comments, Changes, and the Rule

We received three submissions on our proposed rule, published April 23, 2025. During the comment period, we also received a minor technical correction to the coordinates of the SLR from the event sponsor. The first submission was in favor of the proposed regulation, highlighting the need for additional safety measures during high-speed boat races in the area. The commenter stated that this rule would have minimal to no impact on businesses or recreational waterway users. The second submission was also in support of the regulation and stated that this rule will help to ensure the event will be protected from potential negative impacts.

The third submission complained of a lack of specificity regarding the analysis of any impact on businesses that require passage through the restricted waters, regarding any alternate route those businesses would need to take, and regarding when, and how often the broadcast notice to mariners will be broadcasted. In response, we note that this event does not impede the navigable channel and that all vessels (including small boats and Naval vessels) would be able to navigate the York River during the event. The size of the regulated area is no more than 550 yards long by 200 yards wide, and there is ample water within the York River to transit around it. We therefore view the impact on vessels traveling around the regulated waters for two hours on a Sunday once a year as de minimis. The broadcast to mariners will be released two days prior to the event and can be read on the U.S. Coast Guard Navigation Center's website. In addition, it will be broadcasted over the VHF FM Channel 16 twice a day. And the U.S. Coast Guard Sector Virginia Command Center will read it over the VHF FM Channel 16 one hour prior to the event and every 30 minutes thereafter for the duration of the event. Furthermore, there will be a U.S. Coast Guard Patrol Commander on scene notifying all mariners of the regulated area.

As the result of technical corrections provided by the event sponsor during the comment period, we have made minor changes to the coordinates provided in the NPRM. The difference in the coordinates is negligible and does not increase the size or significantly change the location of the regulated area from that described in the NPRM. We have included a chart showing the original and final location of the regulated area in the docket to illustrate how minor the changes are. To view it, go to https://www.regulations.gov, type USCG-2025-0262 in the search box and click “Search.” Next, look for this document in the Search Results column, and click on it. Then select “Supporting & Related Material” in the Document Type column. There are no other changes in the regulatory text of this rule from the text of the proposed rule.

This rule establishes a special local regulation which will be subject to enforcement from noon until 2 p.m. on June 1, 2025, and annually on the first Sunday in June in future years. The special local regulation will cover a portion of the York River in Yorktown, VA, on a designated, marked course. The coordinates of the regulated area are provided in the language of the rule, provided below. The duration of the enforcement period for the SLR zone was chosen to ensure the safety of vessels and these navigable waters before, during, and after the boat race, which is scheduled from noon to 2 p.m. this year. No vessel or person will be permitted to enter the regulated area without obtaining permission from the COTP or a designated representative. The SLR is incorporated into 33 CFR 100.501 and the general provisions of that rule apply to it.

V. Regulatory Analyses

We developed this rule after considering numerous statutes and Executive orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866. Accordingly, this rule has not been reviewed by the Office of Management and Budget (OMB).

This regulatory action determination is based on the size, location, duration, and time-of-day of the special local regulation. Vessel traffic would be able to safely transit around this special local regulation which would impact a small, designated area of the York River for no more than 2 hours a year, during a time when vessel traffic is normally low. Moreover, the Coast Guard would issue a Broadcast Notice to Mariners via VHF-FM marine channel 16 about the zone, and the rule would allow vessels to seek permission to enter the zone.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to transit the special local regulation may be small entities, for the reasons stated in section V.A above, this rule will not have a significant economic impact on any vessel owner or operator.

Under section 213(a) of the Small Business Regulatory Enforcement Fairness Act of 1996 (Pub. L. 104-121), we want to assist small entities in understanding this rule. If the rule will affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves a special local regulation lasting 2 hours that would prohibit entry within a race area. It is categorically excluded from further review under paragraph L61 of Appendix A, Table 1 of DHS Instruction Manual 023-01-001-01, Rev. 1.

List of Subjects in 33 CFR Part 100

Harbors, Marine safety, Navigation (water), Reporting and recordkeeping requirements, Security measures, Waterways.

For the reasons discussed in the preamble, the Coast Guard amends 33 CFR part 100 as follows:

PART 100—SAFETY OF LIFE ON NAVIGABLE WATERS

1. The authority citation for part 100 continues to read as follows:

Authority: 46 U.S.C. 70041; 33 CFR 1.05-1.

2. In § 100.501, amend table 3 to paragraph (i)(3) by adding an entry, in alphabetical order, for “York River Workboat Race”, to read as follows:

§ 100.501 Special Local Regulations; Marine Events Within the Fifth Coast Guard District.

* * * * *

(i) * * *

(3) * * *

Table 3 to Paragraph (i)(3)
Event | Regulated area | Enforcement ¹ period(s) | Sponsor
* * * * * * *
York River Workboat Race | All navigable waters encompassed by the following point: 37°14′09.0″ N 76°30′11.0″ W; 37°14′13.2″ N, 76°30′07.2″ W; 37°14′24.0″ N, 76°30′21.6″ W; 37°14′20.4″ N, 76°30′25.2″ W | First Sunday in June | York County.
¹ As noted, the enforcement dates and times for each of the listed events in this table are subject to change. In the event of a change, or for enforcement periods listed that do not allow a specific date or dates to be determined, the Captain of the Port will provide notice to the public by publishing a Notice of Enforcement in the Federal Register, as well as, issuing a Broadcaster Notice to Mariner.

* * * * *

Dated: May 12, 2025.
Peggy M. Britton,
Captain, U.S. Coast Guard, Captain of the Port Sector Virginia.

[FR Doc. 2025-08865 Filed 5-16-25; 8:45 am]

BILLING CODE 9110-04-P